DEPARTMENT OF THE INTERIOR

National Park Service

[NPS-WASO-NAGPRA-NPS0038917; PPWOCRADN0-PCU00RP14.R50000]

Notice of Inventory Completion: San Bernardino County Museum, Redlands, CA

AGENCY: National Park Service, Interior.

ACTION: Notice.

SUMMARY: In accordance with the Native American Graves Protection and Repatriation Act (NAGPRA), the San Bernardino County Museum has completed an inventory of human remains and associated funerary objects and has determined that there is a cultural affiliation between the human remains and associated funerary objects and Indian Tribes or Native Hawaiian organizations in this notice.

DATES: Repatriation of the human remains and associated funerary objects in this notice may occur on or after November 21, 2024.

ADDRESSES: Tamara Serrao-Leiva, San Bernardino County Museum, 2024 Orange Tree Lane, Redlands, CA 92374, telephone (909) 798-8623, email tserrao-leiva@sbcm.sbcounty.gov.

SUPPLEMENTARY INFORMATION: This notice is published as part of the National Park Service's administrative responsibilities under NAGPRA. The determinations in this notice are the sole responsibility of the San Bernardino County Museum, and additional information on the determinations in this notice, including the results of consultation, can be found in its inventory or related records. The National Park Service is not responsible for the determinations in this notice.

Abstract of Information Available

Human remains representing, at least, one individual has been identified. The seven associated funerary objects are burned beads, glass beads, shell, pipe fragments, petrified wood, pottery, and stone tools. The Deep Canyon collection housed at the museum was collected by a private corporation in the summer of 1972 in and around Deep Canyon in Palm Desert, CA. While the original field records do not mention human remains, the museum's records show that one skull fragment is associated with SBCM-5600 (Deep Canyon). Records show Gorden Redtfeldt and M.R. Harrington at the Southwest Museum were corresponding regarding a site report in 1955.

Human remains representing, at least, one individual has been identified. The two associated funerary objects are fish and faunal bone. The Lake LeConte collection (SBCM-5922) housed at the museum was originally part of the McCown collection, who was affiliated with Archaeological Survey Association. When ASA disbanded, this collection was donated to the county museum in the early 2000s.

Human remains representing, at least, one individual has been identified. The four associated funerary objects are pottery, historic-era objects, bone awls, and organic material. In the 1970s an ancestor and objects were sent to Riverside Sheriff's department for a small exhibit installed in the department. In early 2024, sheriff/coroner rediscovered these items in a box labelled “SBCM” which included the human remains and objects. In May 2024, coroner communicated this and dropped off the box to the museum. The ceramic potsherd found with ancestor is Cahuilla.

Cultural Affiliation

Based on the information available and the results of consultation, cultural affiliation is reasonably identified by the geographical local or acquisition history of the human remains and associated funerary objects described in this notice.

Determinations

The San Bernardino County Museum has determined that:

• The human remains described in this notice represent the physical remains of three individuals of Native American ancestry.

• The 13 objects described in this notice are reasonably believed to have been placed intentionally with or near individual human remains at the time of death or later as part of the death rite or ceremony.

• There is a connection between the human remains and associated funerary objects described in this notice and the Agua Caliente Band of Cahuilla Indians of the Agua Caliente Indian Reservation, California; Augustine Band of Cahuilla Indians, California; Cabazon Band of Cahuilla Indians (previously listed as Cabazon Band of Mission Indians, California); Cahuilla Band of Indians; Los Coyotes Band of Cahuilla and Cupeno Indians, California; Morongo Band of Mission Indians, California; Ramona Band of Cahuilla, California; Santa Rosa Band of Cahuilla Indians, California; and the Torres Martinez Desert Cahuilla Indians, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 21, 2024. If competing requests for repatriation are received, the San Bernardino County Museum must determine the most appropriate requestor prior to repatriation. Requests for joint repatriation of the human remains and associated funerary objects are considered a single request and not competing requests. The San Bernardino County Museum is responsible for sending a copy of this notice to the Indian Tribes and Native Hawaiian organizations identified in this notice.

Authority: Native American Graves Protection and Repatriation Act, 25 U.S.C. 3003, and the implementing regulations, 43 CFR 10.10.

Dated: October 11, 2024.
Melanie O'Brien,
Manager, National NAGPRA Program.

[FR Doc. 2024-24414 Filed 10-21-24; 8:45 am]

BILLING CODE 4312-52-P